SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Application of Circuit Court Law—0960-0581. SSA regulations at 20 CFR 404.985 and 416.1485 inform claimants of their right to request that a published Acquiescence Ruling (AR) be applied to a prior determination when we make a determination or decision on a claim between the date of the Circuit Court decision and the date we publish the AR. The regulations also specify that claimants can request that the AR be applied to a prior determination or decision by submitting a statement that demonstrates how the AR could change the prior determination or decision. SSA will use the information provided in the statement to readjudicate the claim, if the claimant demonstrates the Ruling could change the prior determination. Claimants may use Form SSA-795, Statement of Claimant or Other Person (OMB No. 0960-0045), to request and support application of a published AR to the prior determination or decision. The respondents are claimants whose determinations or decisions on their claims may be affected by an AR.

Number of Respondents: 100,000.

Frequency of Response: 1.

Average Burden Per Response: 17 minutes.

Estimated Annual Burden: 28,333 hours.

2. Statement for Determining Continuing Eligibility, Supplemental Security Income Payment—0960-0145. SSA uses Form SSA-8202-F6 to conduct low- and middle-error-profile (LEP-MEP) telephone or face-to-face interviews with Supplemental Security Income (SSI) recipients and representative payees. The information collected during the interview is used to determine whether SSI recipients' have met and continue to meet all statutory and regulatory requirements for SSI eligibility and whether they have been and are still receiving the correct payment amount. The respondents are recipients of SSI benefits or their representative payees.

Number of Respondents: 920,000.

Frequency of Response: 1.

Average Burden Per Response: 17 minutes.

Estimated Annual Burden: 260,667 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. State Vocational Rehabilitation Agency Claim (SSA-199-U2) and Subpart V—Payments for Vocational Rehabilitation Services, 20 CFR Sections 404.2104, 404.2108, 404.2113, 404.2117, 404.2121, 416.2204, 416.2208, 416.2213 and 416.2217-0960-0310. The information collected on Form SSA-199-U2 and through these current rules is used by the Social Security Administration (SSA) to determine if State vocational rehabilitation agencies are providing appropriate services, including referrals when necessary, and whether those claims for services should be paid. The respondents are the 80-100 State vocational rehabilitation agencies and alternate participants who offer vocational and employment services for SSA beneficiaries.

Number of Respondents: 80-100.

Frequency of Response: On occasion.

Number of Responses: 16,300.

Average Burden Per Response: Varies from 23 minutes to 4 hours.

Estimated Annual Burden: 9,048 hours.

2. SSA/DDS Cost-Effectiveness Measurement System (CEMS) Data Reporting Form—0960-0384. The data requested on Form SSA-1461 is input directly into the CEMS by the Disability Determination Services (DDS). This data is used by SSA in making DDS funding allocations, in measuring the cost effectiveness of operating each of the 52 reporting DDSs, and in setting cost-effectiveness goals. The respondents are State DDS's that report data for cost analysis and evaluation.

Number of Respondents: 52.

Frequency of Response: 4.

Average Burden Per Response: 6 hours.

Estimated Annual Burden: 1,248 hours.

(SSA Address), Social Security Administration, DCFAM, Attn: Frederick W. Brickenkamp, 1-A-21 Operations Bldg., 6401 Security Blvd., Baltimore, MD 21235.

(OMB Address), Office of Management and Budget, OIRA, Attn: Desk Officer for SSA, New Executive Office Building, Room 10230, 725 17th St., NW, Washington, D.C. 20503.

Dated: August 3, 2000.
Frederick W. Brickenkamp,
Reports Clearance Officer, Social Security Administration.

[FR Doc. 00-20034 Filed 8-8-00; 8:45 am]

BILLING CODE 4191-02-P